DEPARTMENT OF TRANSPORTATION

Federal Aviation Administration

14 CFR Parts 21 and 27

[Docket No. SW017; Special Condition No. 27-017-SC]

Special Condition: Bell Helicopter Textron Canada Limited Model 429 Helicopters, High Intensity Radiated Fields

AGENCY: Federal Aviation Administration (FAA), DOT.

ACTION: Final special condition; request for comments.

SUMMARY: This special condition is issued for the Bell Helicopter Model 429 helicopters. These helicopters will have novel or unusual design features associated with installing electrical and electronic systems that perform critical functions, including an Electronic Flight Instrument System (EFIS) and a Full Authority Digital Engine Control (FADEC). The applicable airworthiness regulations do not contain adequate or appropriate safety standards to protect systems that perform critical control functions, or provide critical displays, from the effects of high-intensity radiated fields (HIRF). This special condition contains the additional safety standards that the Administrator considers necessary to ensure that critical functions of systems will be maintained when exposed to HIRF.

DATES: The effective date of this special condition is December 11, 2007. Comments must be received on or before February 11, 2008.

ADDRESSES: Send comments on this special condition in duplicate to: Federal Aviation Administration, Rotorcraft Directorate, Attention: Rules Docket (ASW-111) Docket No. SW017, Fort Worth, Texas 76193-0111, or deliver them in duplicate to the Rotorcraft Directorate at 2601 Meacham Blvd., Fort Worth, Texas 76137. Comments must be marked: Docket No. SW017. You may inspect comments in the Docket that is maintained in Room 448 in the Rotorcraft Directorate offices at 2601 Meacham Blvd., Fort Worth, Texas, on weekdays, except Federal holidays, between 8:30 a.m. and 4 p.m.

FOR FURTHER INFORMATION CONTACT: Carroll Wright, Electrical Flight Systems Engineer, FAA, Rotorcraft Directorate, Rotorcraft Standards, 2601 Meacham Blvd., Fort Worth, Texas 76193-0110; telephone (817) 222-5120, FAX (817) 222-5961.

SUPPLEMENTARY INFORMATION: We have determined that notice and opportunity for prior public comment are unnecessary since the substance of this special condition has been subject to the public comment process in several prior instances with no substantive comments received. Therefore, we determined that good cause exists for making this special condition effective upon issuance.

Comments Invited

You are invited to submit written data, views, or arguments. Your communications should include the regulatory docket or special condition number and be sent in duplicate to the address stated above. We will consider all communications received on or before the closing date and may change the special condition in light of the comments received. Interested persons may examine the Docket. We will file a report summarizing each substantive public contact with FAA personnel concerning this special condition in the docket. If you wish us to acknowledge receipt of your comments, you must include a self-addressed, stamped postcard on which the following statement is made: “Comments to Docket No. SW017.” We will date stamp the postcard and mail it to you.

Background

On September 13, 2004, Bell Helicopter submitted an application for a Type Certificate for the Model 429 helicopter. The Model 429 helicopter is a new design based on the existing drive train of the Bell Model 427 helicopter and a new fuselage. The Model 429 is a twin-engine, 4-bladed main and tail rotor helicopter with a maximum gross weight of 7,000 pounds, capable of carrying up to nine passengers plus a pilot. The helicopter will be designed for dual and single pilot instrument flight rules (IFR) and Category A operations.

Type Certification Basis

Under the provisions of 14 CFR 21.17, Bell Helicopter must show that the Model 429 helicopter meets the applicable provisions of the regulations as listed below:

14 CFR part 27, Amendment 27-0 through Amendment 27-40 dated May 9, 2001.

Sections of 14 CFR part 29, Amendment 29-14 dated September 1, 1977, as listed in 14 CFR part 27 Appendix B for instrument flight rules (IFR).

Sections of 14 CFR part 29 Amendment 29-0 through Amendment 29-47 dated May 9, 2001, as listed in 14 CFR part 27 Appendix C for Category A.

14 CFR part 36 Appendix H, Amendment 36-25, including FAA stage 3 noise limits for helicopters.

Any special conditions, exemptions, and equivalent safety findings deemed necessary.

In addition, the certification basis includes certain special conditions and equivalent safety findings that are not relevant to this special condition.

If the Administrator finds that the applicable airworthiness regulations do not contain adequate or appropriate safety standards for these helicopters because of a novel or unusual design feature, special conditions are prescribed under the provisions of § 21.16.

In addition to the applicable airworthiness regulations and special conditions, Bell Helicopter Model 429 helicopters must comply with the noise certification requirements of 14 CFR part 36; and the FAA must issue a finding of regulatory adequacy pursuant to § 611 of Public Law 92-574, the “Noise Control Act of 1972.”

Special conditions, as appropriate, are defined in § 11.19, and issued by following the procedures in § 11.38, and become part of the type certification basis in accordance with § 21.17(a)(2).

Special conditions are initially applicable to the model for which they are issued. Should the type certificate for that model be amended later to include any other model that incorporates the same novel or unusual design feature, the special conditions would also apply to the other model under the provisions of § 21.101.

Novel or Unusual Design Features

The Bell Helicopter Model 429 helicopter will incorporate the following novel or unusual design features: Electrical, electronic, or combination of electrical electronic (electrical/electronic) systems that perform critical control functions or provide critical displays, such as electronic flight instruments that will be providing displays critical to the continued safe flight and landing of the helicopter during operation in Instrument Meteorological Conditions (IMC), and Full Authority Digital Engine Control (FADEC) that will be performing engine control functions that are critical to the continued safe flight and landing of the helicopter during visual flight rules (VFR) and IFR operations.

Discussion

The Bell Helicopter Model 429 helicopter, at the time of application, was identified as incorporating one and possibly more electrical/electronic systems, such as electronic flight instruments and FADEC. After the design is finalized, Bell Helicopter will provide the FAA with a preliminary hazard analysis that will identify any other critical functions, required for safe flight and landing, that are performed by the electrical/electronic systems.

Recent advances in technology have led to the application in aircraft designs of advanced electrical/electronic systems that perform critical control functions or provide critical displays. These advanced systems respond to the transient effects of induced electrical current and voltage caused by HIRF incident on the external surface of the helicopter. These induced transient currents and voltages can degrade the performance of the electrical/electronic systems by damaging the components or by upsetting the systems' functions.

Furthermore, the electromagnetic environment has undergone a transformation not envisioned by the current application of 14 CFR 27.1309(a). Higher energy levels radiate from operational transmitters currently used for radar, radio, and television. Also, the number of transmitters has increased significantly.

Existing aircraft certification requirements are inappropriate in view of these technological advances. In addition, the FAA has received reports of some significant safety incidents and accidents involving military aircraft equipped with advanced electrical/electronic systems when they were exposed to electromagnetic radiation.

The combined effects of the technological advances in helicopter design and the changing environment have resulted in an increased level of vulnerability of the electrical/electronic systems required for the continued safe flight and landing of the helicopter. Effective measures to protect these helicopters against the adverse effects of exposure to HIRF will be provided by the design and installation of these systems. The following primary factors contributed to the current conditions: (1) Increased use of sensitive electronics that perform critical functions; (2) reduced electromagnetic shielding afforded helicopter systems by advanced technology airframe materials; (3) adverse service experience of military aircraft using these technologies; and (4) an increase in the number and power of radio frequency emitters and the expected increase in the future.

On July 30, 2007, we issued a final HIRL rule (72 FR 44016, August 6, 2007). This rule provides standards to protect aircraft electrical and electronic systems from HIRFs. It was effective September 5, 2007. However, that rule included provisions that provide relief from the new testing requirements for equipment previously certificated under HIRF special conditions issued in accordance with 14 CFR 21.16. To obtain this relief the applicant must be able to show that—

(1) The system has previously been shown to comply with special conditions for HIRF, prescribed under § 21.16, issued before December 1, 2007;

(2) The HIRF immunity characteristics of the system have not changed since compliance with the special conditions was demonstrated; and

(3) The data used to demonstrate compliance with the HIRF special conditions is provided.

The Bell 429 installations are eligible for this relief provided in 14 CFR 29.1317(d) of the final HIRF rule. However, to meet their HIRF requirements they must comply with this Special Condition, which is based on similar, historical HIRF protections requirements.

Compliance with HIRF requirements will be demonstrated by tests, analysis, models' similarity with existing systems, or a combination of these methods. Service experience alone will not be acceptable since such experience in normal flight operations may not include an exposure to HIRF. Reliance on a system with similar design features for redundancy as a means of protection against the effects of external HIRF is generally insufficient because all elements of a redundant system are likely to be concurrently exposed to the radiated fields.

This special condition will require aircraft installed systems that perform critical control functions or provide critical displays to meet certain standards based on either a defined HIRF environment or a fixed value using laboratory tests. Control system failures and malfunctions can more directly and abruptly contribute to a catastrophic event than display system failures and malfunctions. Therefore, it is considered appropriate to require more rigorous HIRF verification methods for critical control systems than for critical display systems.

The applicant may demonstrate that the operation and operational capabilities of the installed electrical/electronic systems that perform critical functions are not adversely affected when the aircraft is exposed to the defined HIRF test environment. We have determined that the test environment defined in Table 1 is acceptable for critical control functions in helicopters. The test environment defined in Table 2 is acceptable for critical display systems in helicopters.

The applicant may also demonstrate, by a laboratory test, that the electrical/electronic systems that perform critical control functions or provide critical displays can withstand a peak electromagnetic field strength in a frequency range of 10 kHz to 18 GHz. If a laboratory test is used to show compliance with the defined HIRF environment, no credit will be given for signal attenuation due to installation. A level of 100 volts per meter (v/m) is appropriate for critical display systems. A level of 200 v/m is appropriate for critical control functions. Laboratory test levels are defined according to RTCA/DO-160D Section 20 Category W (100 v/m and 150 mA) and Category Y (200 v/m and 300 mA). As defined in DO-160D Section 20, the test levels are defined as the peak of the root means squared (rms) envelope. As a minimum, the modulations required for RTCA/DO-160D Section 20 Categories W and Y will be used. Other modulations should be selected as the signal most likely to disrupt the operation of the system under test, based on its design characteristics. For example, flight control systems may be susceptible to 3 Hz square wave modulation while the video signals for electronic display systems may be susceptible to 400 Hz sinusoidal modulation. If the worst-case modulation is unknown or cannot be determined, default modulations may be used. Suggested default values are a 1 kHz sine wave with 80 percent depth of modulation in the frequency range from 10 kHz to 400 MHz, and 1 kHz square wave with greater than 90 percent depth of modulation from 400 MHz to 18 GHz. For frequencies where the unmodulated signal would cause deviations from normal operation, several different modulating signals with various waveforms and frequencies should be applied.

Applicants must perform a preliminary hazard analysis to identify electrical/electronic systems that perform critical functions. The term “critical” means those functions whose failure would contribute to or cause an unsafe condition that would prevent the continued safe flight and landing of the helicopter. The systems identified by the hazard analysis as performing critical functions are required to have HIRF protection. A system may perform both critical and non-critical functions. Primary electronic flight display systems and their associated components perform critical functions such as attitude, altitude, and airspeed indications. HIRF requirements would apply only to the systems that perform critical functions, including control and display.

Acceptable system performance would be attained by demonstrating that the critical function components of the system under consideration continue to perform their intended function during and after exposure to required electromagnetic fields. Deviations from system specifications may be acceptable, but must be independently assessed by the FAA on a case-by-case basis.

Table 1.—Rotorcraft Critical Control Functions Field Strength Volts/Meter
Frequency | Peak | Average
10 kHz-100 kHz | 150 | 150
100 kHz-500 kHz | 200 | 200
500 kHz-2 MHz | 200 | 200
2 MHz-30 MHz | 200 | 200
30 MHz-70 MHz | 200 | 200
70 MHz-100 MHz | 200 | 200
100 MHz-200 MHz | 200 | 200
200 MHz-400 MHz | 200 | 200
400 MHz-700 MHz | 730 | 200
700 MHz-1 GHz | 1400 | 240
1 GHz-2 GHz | 5000 | 250
2 GHz-4 GHz | 6000 | 490
4 GHz-6 GHz | 7200 | 400
6 GHz-8 GHz | 1100 | 170
8 GHz-12 GHz | 5000 | 330
12 GHz-18 GHz | 2000 | 330
18 GHz-40 GHz | 1000 | 420

Table 2.—Rotorcraft Critical Display Functions Field Strength Volts/Meter
Frequency | Peak | Average
10 kHz-100 kHz | 50 | 50
100 kHz-500 kHz | 50 | 50
500 kHz-2 MHz | 50 | 50
2 MHz-30 MHz | 100 | 100
30 MHz-70 MHz | 50 | 50
70 MHz-100 MHz | 50 | 50
100 MHz-200 MHz | 100 | 100
200 MHz-400 MHz | 100 | 100
400 MHz-700 MHz | 700 | 50
700 MHz-1 GHz | 700 | 100
1 GHz-2 GHz | 2000 | 200
2 GHz-4 GHz | 3000 | 200
4 GHz-6 GHz | 3000 | 200
6 GHz-8 GHz | 1000 | 200
8 GHz-12 GHz | 3000 | 300
12 GHz-18 GHz | 2000 | 200
18 GHz-40 GHz | 600 | 200

Applicability

As previously discussed, this special condition is applicable to the Bell Helicopter Model 429 helicopter. Should Bell Helicopter apply at a later date for a change to the type certificate to include another model incorporating the same novel or unusual design feature, the special condition would apply to that model as well under the provisions of § 21.101.

Conclusion

This action affects only certain novel or unusual design features on one model series of helicopters. It is not a rule of general applicability and affects only the applicant who applied to the FAA for approval of these features on the helicopter.

The substance of this special condition has been subjected to the notice and comment period previously and is written without substantive change from those previously issued. It is unlikely that prior public comment would result in a significant change from the substance contained in this special condition. For this reason, we have determined that prior public notice and comment are unnecessary, and good cause exists for adopting this special condition upon issuance. The FAA is requesting comments to allow interested persons to submit views that may not have been submitted in response to the prior opportunities for comment.

List of Subjects in 14 CFR Parts 21 and 27

Aircraft, Air transportation, Aviation safety, Rotorcraft, Safety.

The authority citation for these special conditions is as follows:

Authority: 42 U.S.C. 7572; 49 U.S.C. 106(g), 40105, 40113, 44701-44702, 44704, 44709, 44711, 44713, 44715, 45303.

The Special Condition

Accordingly, pursuant to the authority delegated to me by the Administrator, the following special condition is issued as part of the type certification basis for Bell Helicopter Model 429 helicopters.

Protection for Electrical and Electronic Systems from High Intensity Radiated Fields

1. Each system that performs critical functions must be designed and installed to ensure that the operation and operational capabilities of these critical functions are not adversely affected when the helicopter is exposed to high intensity radiated fields external to the helicopter.

2. For the purpose of this special condition, critical functions are defined as those functions, whose failure would contribute to, or cause, an unsafe condition that would prevent the continued safe flight and landing of the aircraft.

Issued in Fort Worth, Texas, on December 11, 2007.
Mark R. Schilling,
Acting Manager, Rotorcraft Directorate, Aircraft Certification Service.

[FR Doc. E7-25143 Filed 12-27-07; 8:45 am]

BILLING CODE 4910-13-P